DEPARTMENT OF LABOR

Office of Disability Employment Policy

[SGA 03-13]

Customized Employment Grants Initiative

AGENCY: Office of Disability Employment Policy, Department of Labor.

ACTION: Notice of availability of funds; solicitation for grant applications (SGA 03-13).

This notice contains all of the necessary information and forms needed to apply for grant funding. (SGA 03-13)

SUMMARY: The U.S. Department of Labor (DOL or the Department), Office of Disability Employment Policy (ODEP) announces the availability of $2.5 million to award up to five competitive grants ranging from approximately $500,000 to $750,000 for strategic planning and implementation activities designed to improve the employment and career advancement of people with disabilities through enhanced availability and provision of customized employment services through the One-Stop delivery system established under the Workforce Investment Act of 1998 (WIA) (Pub. L. 105-220, 29 U.S.C. 2801 et seq.).

The purpose of this Customized Employment Grant Initiative, begun by ODEP in FY'01 and continued in FY'02, is to provide funds to selected Local Workforce Investment Boards (Local Boards), or, if appropriate, the WIA grant recipient or fiscal agent for the local area on behalf of the Local Board. The Local Board will be the lead entity in a consortium/partnership of public and private entities, to build the capacity in local One-Stop Centers to provide customized employment services to those persons with disabilities who may not now be regularly targeted for services by the One-Stop Center system. Grants funded under this program will also provide a vehicle for Local Boards to systemically review their policies and practices in terms of service to persons with disabilities, and to incorporate new and innovative practices, as appropriate.

Grants are for a one-year period and may be renewed for a period of up to four additional years at varying funding levels depending upon the availability of funds and the efficacy of the project activities. See also Parts IV, IX.

The applicants scoring the highest when evaluated pursuant to the criteria set forth in Part VII, in conjunction with considerations by the Grant Officer delineated in Part IX of this Solicitation for Grant Application will be awarded Customized Employment Grants.

Eligibility: Eligible applicants for these grants are Local Workforce Investment Boards (Local Boards) or if appropriate, the Workforce Investment Act (WIA) (Pub. L. 105-220, 29 U.S.C. 2801 et seq.) grant recipient or fiscal agent for the local area on behalf of the local board under the Workforce Investment Act. The Local Board may enter into numerous partnerships with other public and private entities, consistent with the proposed activities of the grant.

DATES: Applications will be accepted commencing on June 6, 2003. The closing date for receipt of applications under this announcement is July 21, 2003. Applications must be received by 4:45 p.m. (ET) at the address below. No exceptions to the mailing and hand-delivery conditions set forth in this notice will be granted. Applications that do not meet the conditions set forth in this notice will be considered non-responsive.

ADDRESSES: Applications shall be mailed to: U.S. Department of Labor, Procurement Services Center, Attention: Cassandra Willis, Reference SGA 03-13, Room N-5416, 200 Constitution Avenue, NW., Washington, DC 20210. Telefacsimile (FAX) applications will not be accepted. Applicants are advised that mail in the Washington area may be delayed due to mail decontamination procedures.

FOR FURTHER INFORMATION CONTACT: Cassandra Willis, U.S. Department of Labor, Procurement Services Center, telephone (202) 693-4570 (this is not a toll-free number), prior to the closing deadline. Persons who are deaf or hard of hearing may contact ODEP via the Federal Relay Service, (800) 877-8339. This announcement will also be published on the Internet on ODEP's online Home Page at: http://www2.dol.gov/odep. Award notifications will also be published on the ODEP homepage.

SUPPLEMENTARY INFORMATION:

Part I. Delivery of Applications

1. Late Applications. Any application received after the exact date and time specified for receipt at the office designated in this notice will be considered non-responsive, unless it is received before awards are made and it (a) is determined that its late receipt was caused by DOL error; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications. Applications may be withdrawn by written notice or telegram (including mail gram) received at any time before an award is made. Applications may be withdrawn in person by the applicant or by an authorized representative thereof, if the representative's identity is made known and the representative signs a receipt of the proposal.

3. Hand-delivered proposals. It is preferred that applications be mailed at least five days prior to the closing date. To be considered for funding, hand-delivered applications must be received by 4:45 p.m., ET, at the specified address. Failure to adhere to the above instructions will be basis for a determination of non-responsiveness. Overnight express mail from carriers other than the U.S. Postal Service will be considered hand-delivered applications and must be received by the above specified date and time.

Part II. Authority

Omnibus Appropriations Resolution, 2003, Public Law 1087; Consolidated Appropriations Act, 2001, Public Law 106-554, 29 U.S.C. 557b.

Part III. Background

The President's New Freedom Initiative is designed to increase the number of people with disabilities who enter, reenter, and remain in the workforce. It is dedicated to increasing investment in and access to assistive technologies, a quality education, and increasing the integration of Americans with disabilities into the workforce and community life. The WIA provides the infrastructure for streamlining services and securing employment through the One-Stop delivery system.

WIA provides a system in which multiple programs and agencies (including state Vocational Rehabilitation agencies) to: (a) Form partnerships in this effort; (b) share expertise and coordinate resources; and (c) provide services to assist people in gaining and retaining employment. The One-Stop Career Centers that comprise this system are in a position to expand employment opportunities for people with disabilities, thus ensuring that the intent of the New Freedom Initiative is accomplished.

Under WIA, collaboration with multiple required partners ¹ is intended to create a coordinated and streamlined system for the customer seeking employment. It is essential to involve additional state or local programs as partners with the One-Stop Center to enable people with disabilities to have increased employment opportunities and choice in employment. These additional programs include, but are not limited to, state programs for Mental Retardation and Developmental Disabilities, Medicaid, Mental Health and Transportation; State Councils for Developmental Disabilities; state assistive technology programs, Small Business Development Centers and secondary education programs. While not required partners under WIA, these programs have expertise and/or resources that can contribute to expanding employment and business opportunities for people with disabilities.

¹ Some of the required partners are adult education and literacy activities under Title II of WIA; post-secondary vocational education activities under the Carl Perkins Act (20 U.S.C. 2301 et seq.); vocational rehabilitation programs authorized under Title V of the Workforce Investment Act; welfare-to-work programs; veterans employment and training activities, community services block grant employment and training activities; U.S. Department of Housing and Urban Development employment and training activities; and activities authorized under Title V of the Older Americans Act (WIA sec. 121(b), 29 U.S.C.A. 2841(b), 20 CFR 662.200).

In addition, community colleges, University Centers for Excellence in Developmental Disabilities, business incubators, lending institutions, foundations, faith-based and community organizations, and other state or local programs may also be critical partners. These agencies and programs may not be informed about the potential for coordinating resources and expertise with Local Workforce Investment Boards and One-Stop Centers to increase employment, choice and wages for people with disabilities.

In addition, One-Stop Centers may elect to become employment networks under the Social Security Administration's (SSA) Ticket-to-Work and Work Incentives Improvement Act of 1999 (42 U.S.C. 1320b-19 et seq.) (TTW), thus making it more likely that they will require expertise in customized employment strategies to successfully facilitate employment for people with disabilities who are recipients of Supplemental Security Income (SSI) or Social Security Disability Insurance (SSDI). The TTW is providing increased employment opportunities for people with disabilities who receive SSI and/or SSDI benefits by addressing some of the major barriers encountered by these individuals as they attempt to gain or regain employment. Approximately eight million people with disabilities receive SSI and/or SSDI benefits. According to the U.S. General Accounting Office, less than one percent of these individuals leave the rolls each year as a result of paid employment. About one-third of those who do leave the SSI and/or SSDI roles typically return within three years.

The TTW program provides a variety of work incentives, including greater choices of needed employment services, the continuation of Medicare eligibility for SSDI recipients and, at the state's option, health coverage under the Medicaid program to certain workers with disabilities, either by permitting them to purchase Medicaid coverage or by extending Medicaid eligibility to them without charge. As a result, there is unprecedented opportunity for these individuals to enter, or return to the workforce.

Therefore, increasing numbers of individuals with disabilities will be approaching their local One-Stop Centers for assistance.

Many strategies exist for securing integrated, competitive employment for people with disabilities, including people who previously might have been considered “nonfeasible” for employment, and people who have been segregated in institutions, nursing homes, and day activity programs.

Many exemplary practices and promising strategies have emerged through decades of research and demonstration projects, and through other public and private activities promoting increased choice and self-determination for people with disabilities. These include a variety of approaches such as:

• Supported employment;

• Supported entrepreneurship;

• Individualized job development;

• Job carving and restructuring;

• Use of personal agents (including individuals with disabilities and family members);

• Development of micro-boards, micro-enterprises, cooperatives and small businesses; and

• Use of personal budgets and other forms of individualized funding that provide choice and control to the person and promote self-determination.

These and other innovations hold the promise of dramatically increasing both employment and wages for people with disabilities, in part by increasing their choices for integrated, competitive employment, business ownership, micro-enterprise development, entrepreneurship, and other employment options that were previously seldom available.

An important focus of these innovations has been on providing non-stereotypical jobs that provide increased earnings, benefits, and career advancement potential for people with significant disabilities. There is a substantial need for a sustained and coordinated initiative to build professional competency within One-Stop Centers and their partners, including service providers and employers, about the use of such customized employment strategies.

Additionally there is a need to:

(1) Effectively expand the availability of personal agents, job development expertise, and other strategies for achieving customized employment for people with disabilities;

(2) Increase the number of eligible training providers who register with the local One-Stop Career Center with expertise in providing customized employment assistance, including faith-based and community organizations that have expertise in supporting families and individuals;

(3) Provide information, technical assistance, training and strategic planning that focuses on integrating customized employment strategies into the workforce investment system;

(4) Develop ongoing linkages with employers, professional and business service organizations and trade associations and market to employers the abilities of people with disabilities to work in a variety of jobs;

(5) Coordinate all necessary employment and related supports from WIA partners and other essential programs that are not required partners under WIA; and,

(6) Research and demonstrate alternative methods of determining effective performance by the workforce investment system in terms of service to people with disabilities.

This SGA is designed to award strategic planning and implementation grants for customized employment to develop and/or expand the capacity of local workforce systems to provide meaningful and effective opportunity through One-Stops for all persons with disabilities. This SGA will lead to the development of comprehensive models of direct service delivery in the context of a One-Stop setting for individuals with disabilities with the greatest barriers to employment, many of whom have never been employed, have been limited to subsidized employment, are underemployed, or may be considered by some as unable to be employed. The Customized Employment grants will involve cutting edge approaches such as use of customized employment strategies and active involvement of essential programs of both mandated and non-mandated partners of the workforce system.

The result of these efforts will be an increase in employment, choice, and wages for people with disabilities through the use of customized employment, and the systemic evaluation and modification, as appropriate, of policies and practices to ensure that customized employment strategies for people with disabilities are systemically included in the services available through the One-Stop Centers.

The U.S. Department of Labor also offers Work Incentive Grants through its Employment and Training Administration. The Work Incentive Grants are designed to enhance service delivery throughout the National One-Stop delivery system for people with disabilities. The Work Incentive Grants are complementary yet distinct from the Customized Employment demonstration grants offered in this SGA. The Work Incentive Grants support systemic change through capacity building of the One-Stop infrastructure, whereas these Customized Employment Grants will serve as models of comprehensive service delivery that extend beyond WIA programs and provide services for individuals with disabilities who are the most disenfranchised under current service delivery systems.

Part IV. Funding Availability and Period of Performance

ODEP anticipates awarding approximately up to five competitive grants ranging from $500,000 to $750,000, to develop demonstration programs to support the development and coordination of customized community employment opportunities in non-stereotypical jobs for people with disabilities. This grant initiative is founded in the belief that in order to fully participate in community life, individuals with disabilities must have the opportunity for employment.

These demonstration grants will be awarded for one year, with four additional option years possible, depending upon the availability of funds and the efficacy of grant activities, established by independent reviews conducted by ODEP or its designees. It is envisioned that if funding continues for the full five years, the funding for years four and five will be at successively lower rates with funding during year four at 80 percent of the third year funds, and funding during year five at 60 percent of the third year funds. Grantees are expected to use this grant to leverage and develop other public and private resources to ensure sustainability, and the extent to which the application demonstrates such sustainability is an important rating criterion for this competition.

Funds shall not be used for modifying buildings or equipment for physical accessibility, although the strategic planning should address how resources will be leveraged for such purposes from other sources, as appropriate.

Part V. Eligible Applicants and Required Partnerships

Eligible applicants: Eligible applicants for these grants are restricted to Local Workforce Investment Boards (Local Boards) or, if appropriate, the WIA grant recipient or fiscal agent for the local area on behalf of the Local Board as established under WIA. The Local Board may coordinate numerous partnerships with other public and private entities, consistent with proposed activities of the grant and applicable administrative requirements. Local Boards are encouraged to form partnerships with other state and local entities and public and private non-profit organizations, including faith-based and community organizations.

Indian and Native American Tribal entities, or consortia of Tribes, with the written approval of their tribal council, are also eligible to receive these grants. Grants to Indian and Native American tribal grantees must recognize principles of sovereignty and self-governance established under the Indian Self-Determination and Education Assistance Act, allowing for the government-to-government relationship between the Federal and Tribal Governments. Such an application could involve coordination of services and enhancement to a One-Stop system approach for people with disabilities in a specific Indian community or covering multiple Tribal entities that may cut across multiple States and/or workforce investment areas.

Required partnerships: The purpose of this initiative is to maximize the capacity of, and outcomes from, One-Stop Centers and their partners to effectively serve people with disabilities through customized employment strategies, and to integrate those strategies into the policy and practice of the One-Stop and its partners in order to increase employment, choice and wages for people with disabilities. These efforts must include the involvement of many key partners, especially those with direct involvement in their area's One-Stop Career Centers.

For purposes of this solicitation, the target groups are people with disabilities who are either unemployed or under-employed and are:

(1) Receiving Supplementary Security Income (SSI) and/or Social Security Disability Insurance (SSDI); or

(2) Participating in day programs (such as day habilitation, day activity or day health programs) or participating in facility-based or community employment and earning less than minimum wage; or

(3) Participating in segregated employment and choosing to move to integrated, competitive employment; or

(4) Awaiting employment services and supports following a move from a residential facility, or as part of a plan to move into a community under the Supreme Court decision in Olmstead v. L.C. by Zimring, 527 U.S. 581(1999); or

(5) Transitioning from, or preparing to transition from, secondary school under a transition plan under part B of the Individuals with Disabilities Education Act, as amended (20 U.S.C. 1400 et seq.), and who, without access to customized employment strategies, would likely be referred to one of the environments identified in (2), (3) or (4) above, but who prefer integrated, competitive employment or self-employment.

In addition, this program is subject to the provisions of the “Jobs for Veterans Act,” Public Law 107-288, which provides priority of service to veterans and certain of their spouses in all Department of Labor-funded job training programs. Please note that, to obtain priority of service, a veteran must meet that program's eligibility requirements. Comprehensive policy guidance is being developed and will be issued in the near future.

As Local Boards, through their local One-Stop Center are required to coordinate and to form partnerships with other state and local entities and public and private non-profit organizations, grant applications must include proposed methods for coordinating efforts with a wide variety of state agencies or entities.

Some of the agencies and organizations that should be considered for inclusion are:

• State programs for Vocational Rehabilitation;

• Mental Health, Medicaid, Mental Retardation/Developmental Disabilities,

• Housing and/or Transportation;

• State Councils on Developmental Disabilities;

• Protection and Advocacy Programs;

• University Centers for Excellence in Developmental Disabilities;

• Institutions of higher education;

• Centers for Independent Living (CIL);

• Disability advocacy and provider organizations;

• Organizations of parents;

• Federally-funded disability grant entities;

• Small Business Development Centers;

• Cooperatives and micro-enterprises;

• Lending and financial institutions;

• Training programs;

• Media and marketing agencies;

• Employers;

• Foundations;

• Grass roots, industry, and faith-based and community organizations;

• As well as other organizations or programs that provide or support services and/or advocacy for people with disabilities.

Letters of support and commitment from these programs may be included in the Appendix of the proposal.

Part VI. Format Requirements for Grant Application

General requirements: Applicants must submit one (1) paper copy with an original signature and two (2) additional paper copies of their signed proposal. To aid with the review of applications, DOL also encourages Applicants to submit an electronic copy of their proposal on a disc or CD using Microsoft Word. Applicants who do not provide an electronic copy will not be penalized. The Application Narrative must be double-spaced with standard one-inch margins (top, bottom, and sides) on 8½ x 11 papers, and be presented on single-sided, numbered pages with the exception of format requirements for the Executive Summary. The Executive Summary must be limited to no more than two single-spaced, single-sided pages on 8½ x 11 papers with standard one-inch margins (top, bottom, and sides) throughout. A font size of at least twelve (12) pitch is required throughout. Applications that fail to meet these requirements will be considered non-responsive.

The three required sections of the application are:

Section I—Project Financial Plan

Section II—Executive Summary—Project Synopsis

Section III—Project Narrative (including Attachments, not to exceed seventy-five (75) pages)

Mandatory requirements for each section are provided as follows in this application package. Applications that fail to meet the stated mandatory requirements of each section will be considered non-responsive.

Mandatory application requirements: Section I. Project Financial Plan (Budget) [The Project Financial Plan will not count against the application page limits.] Section I of the application must include the following three required parts:

(1) Completed “SF 424—Application for Federal Assistance” (See Appendix A of this SGA for required form)

(2) Completed “SF-424A—Budget Information Form” by line item for all costs required to implement the project design effectively. (See Appendix B of this SGA for required forms.)

(3) Budget Narrative and Justification that provides sufficient information to support the reasonableness of the costs included in the budget in relation to the service strategy and planned outcomes.

The application must include one SF-424 with the original signatures of the legal entity applying for grant funding and 2 additional copies. Applicants shall indicate on the SF-424 the organization's IRS Status, if applicable. Under the Lobbying Disclosure Act of 1995, section 18 (29 U.S.C. 1611), an organization described in section 501(c)(4) of the Internal Revenue Code of 1986 that engages in lobbying activities will not be eligible for the receipt of Federal funds constituting an award, grant, or loan. [See 2 U.S.C. 1611; 26 U.S.C. 501(c)(4).] For item 10 of the SF-424, the Catalog of Federal Domestic Assistance (CFDA) number for the program is 17.720.

The Budget Narrative and Justification must describe all costs associated with implementing the project that are to be covered with grant funds. Grantees must support the travel and associated costs with sending at least one representative to the annual ODEP Policy Conference for Grantees, to be held in Washington, DC at a time and place to be determined. Grantees must comply with the “Uniform Administrative Requirements for Grants and Cooperative Agreements to State and Local Governments,” (also known as the “Common Rule”) codified at 29 CFR part 97, and “Grants and Agreements with Institutes of Higher Education, Hospitals, and Other Non-Profit Organizations” (also known as OMB Circular A-110), codified at 29 CFR part 95 and must comply with the applicable OMB cost principles circulars, as identified in 29 CFR 95.27 and 29 CFR 97.22(b).

Grantees may use funds in a flexible manner, as determined appropriate by input from stakeholders and identified needs, so long as requirements for outcome and evaluation data and other requirements of Federal statutes, regulations, administrative requirements, and OMB circulars and the requirements delineated in this SGA are met.

In addition, the budget must include on a separate page a detailed cost analysis of each line item. Justification for administrative costs must be provided. Approval of a budget by DOL is not the same as the approval of actual costs. The individual signing the SF-424 on behalf of the applicant must represent and be able to legally bind the responsible financial and administrative entity for a grant should that application result in an award. The applicant must also include the Assurances and Certifications Signature Page (Appendix C).

• Section II. Executive Summary—Project Synopsis [The Executive Summary is limited to no more than two single-spaced, single-sided pages on 8½ x 11 papers with standard margins throughout]. Each application shall include a project synopsis that identifies the following:

• The applicant;

• The amount of funds requested;

• The planned period of performance;

• The list of partners, as appropriate;

• An overview of how the applicant will identify the population to be served (including the estimated number and types of disability), the environments such individuals are currently experiencing (such as institutions, nursing homes, segregated day programs, etc.), and methods that will be used to promote community employment, including customized employment strategies listed in this SGA; and

• An overview of the plan for sustainability once Federal funding ceases.

• Section III. Project Narrative [The Project Narrative plus attachments are limited to no more than seventy-five (75), 8½ x 11 pages, double-spaced with standard one-inch margins (top, bottom, and sides), and must be presented on single-sided, numbered pages]. (Note: The Financial Plan, the Executive Summary, and the Appendices are not included in the seventy-five (75) page limit). The requirements for the project narrative are described below under Part VII—Statement of Work.

All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch). Applications that fail to meet these requirements will be considered non-responsive.

Part VII. Government Requirements/Statement of Work (Project Narrative)

The purpose of this initiative is to maximize the capacity of, and outcomes from, One-Stop Centers and their partners to effectively serve people with disabilities through customized employment strategies, and to integrate those strategies into the policy and practice of the One-Stop and its partners in order to increase employment, choice and wages for people with disabilities. These efforts must include the involvement of many key partners, including those with direct involvement in their area's One-Stop Career Centers, as described in Section V above.

For purposes of this solicitation, ODEP has specifically targeted the development and provision of customized employment to those people with disabilities identified in Part V.

ODEP expects that once capacity for using customized employment strategies is developed or enhanced, the One-Stop Centers and their partners will expand use of these strategies to other groups of people with (and without) disabilities.

For purposes of this solicitation, customized employment means individualizing the employment relationship between employees and employers in ways that meet the needs of both. It is based on an individualized determination of the strengths, needs, and interests of the person with a disability, and is also designed to meet the specific needs of the employer. It may include approaches such as supported employment; supported entrepreneurship; individualized job development; job carving and restructuring; use of personal agents (including individuals with disabilities and family members); development of micro-boards, micro-enterprises, cooperatives and small businesses; and use of personal budgets and other forms of individualized funding that provide choice and control to the person and promote self-determination. These and other job development or restructuring strategies result in job responsibilities being customized and individually negotiated to fit the needs of individuals with a disability. Customized employment assumes the provision of reasonable accommodations and supports necessary for the individual to perform the functions of a job that is individually negotiated and developed.

Each applicant for these grants shall describe its plan for expanding capacity for, and provision of, customized employment opportunities to the target groups as defined in Part V above. Upon the commencement of a grant, grantees must begin a strategic planning and implementation process that will address multiple components of needed change. Planning, implementation and ongoing evaluation for continuous improvements are expected to be implemented from year one in recognition that dynamic planning will occur and evolve over time. By the end of year five, it is expected that a more long-term strategic plan will be in place for expanding the availability of customized employment, and for systemically revising policies and practices consistent with this goal.

The Project Narrative, or Section III of the grant application, should provide complete information on how the applicant will address the following DOL priorities for fiscal year 2003:

(1) Increase the availability of skill training, employment opportunities and career advancement for persons with disabilities; and

(2) Develop comprehensive One-Stop Centers, which are welcoming and are valued providers of choice by customers with disabilities seeking workforce assistance by assuring the availability of staff trained on disability issues, personalized employment counseling, knowledgeable support that addresses employment barriers and work incentives and the availability of accommodations and technologies for diverse disability needs.

Proposals will be rated based upon the quality of the applicant's response in addressing the four criteria described below in terms of a comprehensive strategic approach that addresses ODEP's priorities noted above. The four criteria (Statement of Need/National Significance, Comprehensive Service Strategy, Sustainability, and Management Plan and Outcomes) MUST be addressed and the applicant's goals, accomplishments or status with regard to each item provided.

ODEP, however, does not expect the applicant to fully incorporate every item listed as part of their strategy and proposal design. ODEP recognizes that the needs and requirements of each state and community may be different, and therefore, some of the options identified may be more relevant than others in a particular state or community.

2. Statement of Need /Significance of the Project (15 points)

The purpose of the Statement of Need is to establish the overall status of disability issues relevant to the targeted population in the applicant's state; to identify strengths and deficiencies to be addressed by the applicant's proposal; to identify the overall scope of the proposal's objectives and design; to present the applicant's need for the grant resources; to demonstrate significance of the proposed project; and to demonstrate the development or demonstration of promising new strategies, practices, or innovations. This criteria will be rated upon the applicant's needs identified and proposed approaches to addressing the needs in the context of the Department's priorities.

The narrative in this section should include information that demonstrates:

(1) The potential contribution of the proposed project to increase knowledge or understanding of problems, issues, or effective strategies for local workforce boards and other required and potential partners to use customized employment strategies to increase employment, choice and wages, and influence systems change in the local workforce system.

(2) The extent to which the applicant has an understanding of the issues the state and proposed geographic area are currently facing in their overall Customized Employment implementation efforts;

(3) The extent to which the proposed project is likely to yield findings that may be used by other appropriate agencies and organizations;

(4) The extent to which the proposed project involves the development or demonstration of promising new strategies that build on, or are alternatives to, existing strategies;

(5) The extent to which the promising practices of the proposed project are to be disseminated in ways that will enable others to use the information or strategies;

(6) The potential replicability (national significance) of the proposed project or strategies, including, as appropriate, the potential for implementation in a variety of settings; and

(7) The importance or magnitude of the outcomes, which are likely to be attained by the proposed project.

In evaluating the quality of the proposal narrative, ODEP will consider needs identified and the applicant's proposed approaches to addressing the needs in the context of ODEP's priorities.

2. Comprehensive Service Strategy (30 points)

The purpose of the Comprehensive Service Strategy criteria is to identify the approach proposed by the applicant to implement the Customized Employment grant. The strategy should implement the purpose and objectives of this SGA to enhance the capacity of the workforce investment system to increase employment, choice and wages for persons with disabilities through the use of customized employment strategies and to ensure that such strategies are systemically included in the policy and practice of the One-Stop Center(s).

Proposed Project Design and Its Evaluation—the application must address the proposed design for the Customized Employment grant including its response to the requirements outlined in Part V (Eligible Applicants and Required Partnerships) of this Solicitation.

The Project Design must:

(1) Develop strategic planning and implementation activities across the One-Stop required partner programs as identified in the WIA (such as Vocational Rehabilitation and others as appropriate) as well as other essential programs (such as Medicaid, Medicare, Mental Health, Transportation, Small Business Development Centers, State Councils on Developmental Disabilities, community colleges, benefits counseling and assistance programs, lending and financial institutions), whose expertise, services, and funds could contribute to employment services and supports needed by people with disabilities in order to secure customized employment. Planning activities must include a review of policy and practice as it relates to people with disabilities to provide customized employment for persons with disabilities. Such capacity includes enhancing collaboration between required WIA partners and building new collaborative initiatives with other essential programs;

(2) Develop local and statewide policy initiatives to ensure that customized employment and multiple innovative strategies and promising practices become part of the menu of services available to people with disabilities, including investigating alternative methods for performance accountability that consider the characteristics of the population;

(3) Develop employment opportunities in a variety of jobs, industries and at a variety of levels, including self-employment and entrepreneurship, based on the strengths, needs and desires of the individual with a disability as well as creating and cultivating demand for these opportunities by forging and developing relationships with employers. The design must organize services and supports in ways that provide informed choice and promote self-determination and provide services, including follow-up services to ensure job retention and career development;

(4) Develop and document the capacity of the One-Stop system to increase the wages of people with disabilities who are currently working at less than minimum wage through the use of customized employment strategies;

(5) Develop an increased understanding by One-Stop Centers' staff about health care, work incentives, benefits planning, “tickets” and other provisions under TTW; and document increased use of these programs by the One-Stop Center and its partner programs to secure customized employment for recipients of SSI and SSDI who are entering the workforce or returning to work. This may include registering as an Employment Network under TTW;

(6) Document the increasing use of resources from a number of system partners and other essential programs, including providing individual budgets and other forms of self-directed accounts (e.g., individual training accounts or contractual services; tickets; vouchers; and other sources of individualized funding or personal funding accounts) for persons with disabilities to obtain customized employment;

(7) Develop, leverage and document linkages with other state and local initiatives that provide services and supports for people with disabilities (including, but not limited to, state systems change efforts which promote systems improvement and comprehensive coordination; initiatives involving health care; benefits planning and assistance; housing; transportation; education; supported employment; small business development; technology-related assistance; initiatives of private foundations; and faith-based and community organization programs and others, as appropriate);

(8) Establish connections to and collaborate with other entities, including employers, persons with disabilities, their parents and other family members, community rehabilitation agencies, lending and financial institutions, foundations, faith-based and community organizations, institutions of higher education, small business development centers and others, as appropriate, to further customized employment opportunities for persons with disabilities in local communities. These partners may become a subgroup or an advisory group of the Local Board. They may be specifically charged with coordinating funding, resources and expertise to increase customized employment for people with disabilities in the community and may involve grant design and implementation;

(9) Educate relevant stakeholders, including state and local policymakers and systems personnel, about needed changes in policy and practice in order to increase customized employment and wages for people with disabilities;

(10) Include education activities to enable customized employment and personalized supports to become available and used in local communities, including (as appropriate) activities necessary to secure adoption of the Medicaid buy-in by the state;

(11) Market and develop ongoing linkages with employers, and their professional, business and service organizations and trade associations, as appropriate;

(12) Expand the use of customized employment strategies over time to:

a. All groups of persons with disabilities targeted under this solicitation; and

b. Other groups of individuals with disabilities (such as individuals who are receiving TANF benefits) following completion of the grant;

(13) Track and respond to customer service and satisfaction for both persons with disabilities and employers; and

(14) Identify and purse other activities appropriate to achieving the goals of these grants.

Activities may include the following:

Necessary staffing across agencies to implement grantee activities and otherwise demonstrate effective partnerships and interactions necessary to effectively leverage resources and expertise from partnering systems and programs;

(1) Outreach to relevant stakeholders;

(2) Demonstration activities which provide methods to increase the employment, choice, and wages of people with disabilities that are designed for systemic inclusion (including but not limited to demonstrating the use of individual training accounts or contractual services, tickets, and self-directed individual budgeting initiatives; economic stimulus activities including low-interest loans for person-centered micro-boards focused on increasing economic prosperity for specific individuals with disabilities; entrepreneurial employment initiatives that are consumer-owned or operated; demonstrations of innovation and cutting-edge strategies providing personal control, choice and customized assistance resulting in employment, including business ownership, micro-enterprise development or development of cooperatives for persons with disabilities; accessing Individual Development Accounts and financial literacy training; and other supports needed by specific individuals with disabilities to increase choice and wages in employment);

(3) Collaboration with the education system, parents, families and faith-based and community organizations to ensure transition of young people with disabilities from school to customized employment or training, and documentation of the outcomes of such efforts;

(4) Training and education activities (including training regarding Medicaid buy-in provisions and other policies with implications for increasing employment through state activities) designed to further the goal of increasing customized employment for persons with disabilities. These training activities include the education of One-Stop and partner personnel; educating state systems personnel and policymakers; developing and disseminating educational information and materials; and otherwise promoting policy and practice to increase the wide spread community-based use of customized employment strategies and personalized supports;

(5) Researching and demonstrating alternative methods of measuring WIA performance outcomes that consider the various characteristics of people with disabilities and developing demonstrations of performance measures that document new methods for measuring program effectiveness; and coordinating the availability of and access to assistive technology;

(6) Educating the media and the general public about successful strategies for and the benefits of securing employment for people with disabilities. This will assist in obtaining long-term support for continuation of grantee activities following completion of funding;

(7) Increasing the availability of personal agents and job development personnel offering customized services through customer-controlled approaches that result in customized employment (including demonstrating effectiveness of paying family members or other individuals with disabilities to serve as personal agents when selected by the individual with a disability to assist in negotiating and implementing employment plans and services);

(8) Assisting community providers of segregated employment services to develop integrated, competitive options for individuals with disabilities, including implementation of conversion and other organizational change initiatives conducted with segregated provider programs that wish to change their services to integrated employment; and

(9) Other activities necessary to address needs and achieve goals identified through strategic planning and implementation, including collection of necessary data and evaluation.

In evaluating the quality of the proposed project design, ODEP's consideration will be guided by the following factors:

(a) The extent to which the goals, objectives, and outcomes to be achieved by the proposed project are clearly specified and measurable;

(b) The extent to which the design of the proposed project is appropriate to, and will successfully address, the needs of the target population and other identified needs and the quality of the applicant's plans for recruiting and retaining the target population;

(c) The extent to which the design of the proposed project provides procedures and approaches for collaboration and coordination with key agencies and organizations and identification of critical roles;

(d) The extent to which the design of the proposed project provides clear understanding of and experience with utilization of customized employment strategies for increasing employment, choice and earnings of individuals with significant disabilities;

(e) The extent to which the proposed project will be coordinated, including demonstrated support and commitment from key organizations, employers, and agencies, including faith-based and community organizations;

(f) The extent to which the applicant encourages involvement of people with disabilities and their families, experts and organizations, and other relevant stakeholders in project activities;

(g) The extent to which the design of the project will facilitate an increase in the number of faith-based and community organizations that register as eligible training providers with their local One-Stop Center.

(h) The extent to which performance feedback and continuous improvement are integral to the design of the proposed project.

(i) The extent to which the management plans for project implementation is likely to achieve the objectives of the proposed project on time and within budget; and

(j) The extent to which the proposed project design features innovative strategies to implement customized employment and choice.

3. Sustainability (25 points)

The purpose of the sustainability criteria is to identify strategies for ensuring that activities funded under the grant will continue once Federal funding ceases. Resources and partnerships are an integral element of the project. Sustainability objectives must be built into the project design and ongoing project operation.

In addition, the applicant should detail how federal, state, and local public sector commitments contribute to the sustainability of this project following completion of the grant. Examples of such commitments could include: Commitment from state vocational rehabilitation, one-stop center, state developmental disability, state Medicaid, or state general revenue funding to support expanded customized employment services for individuals securing employment through the agency; status as Employment Network under TTW providing customized employment services to eligible ticket-holders; private sector funding through foundations, financial or lending agencies, or other relevant collaborative arrangements for continuing provision and/or expansion of customized employment services in the community.

To illustrate sustainability planning, the applicant must:

(1) Identify resources and partnerships that are an integral element of the project. Projects funded under this SGA will be judged on their ability to leverage a combination of federal, state, and local public sector resources, as well as local non-profit sector resources for purposes of sustainability. Accordingly, in this section the applicant should enumerate these resources, describe any specific existing contractual commitments, and provide concrete evidence of sustainability;

(2) Identify activities and in-kind elements of sustained support. ODEP considers detailed commitments for specific new activities as more important than promises of in-kind supports in showing sustained support for the project. Grants recently received from another agency can be discussed in the proposal, but the applicant should be precise about which activities preceded this grant and which will occur because of the grant; and

(3) Detail how federal, state, and local public sector commitments contribute to the sustainability of this project following completion of the grant. Examples of such commitments could include: Commitment from state vocational rehabilitation, one-stop center, state developmental disability, state Medicaid, or state general revenue funding to support expanded customized employment services for individuals securing employment through the agency; status as Employment Network under the Ticket to Work and Work Incentive Improvement Act providing customized employment services to eligible ticket-holders; private sector funding through foundations, financial or lending agencies, or other relevant collaborative arrangements for continuing provision or expansion of customized employment services in the community.

In evaluating the quality of the plan for sustainability, ODEP considers the following factors to be of particular importance:

(a) The extent to which the proposed project is designed to build capacity and yield results that will extend beyond the grant period, and the quality of the applicant's plans for implementing the project's activities in years four and five when Federal funding will be reduced.

(b) The likelihood of the applicant successfully securing state ownership and participation in these projects when the grant funds cease.

(c) The extent to which partnerships with outside entities (including public and private disability and faith-based and community organizations) and funding from additional federal, state, and local resources will be effectively leveraged and utilized in continuing the Customized Employment activities after the expiration of this grant.

Letters of Commitment: Applicants can include letters of support if they provide specific commitments. Such letters can increase an applicant's score by showing that the commitments in the text of the proposal are serious. Form letters will not be considered. See also Part V.

4. Management and Outcomes (30 points)

The purpose of the Management and Outcomes criteria is to determine whether the applicant has developed an adequate management plan to effectively carry out the objectives and scope of the proposed project on time and within budget, to describe the predicted outcomes resulting from activities funded under this SGA, and to identify the “methods of evaluation” that will be used by the grantee to determine success.

Applicants should provide a detailed management plan, which identifies the critical activities, time frames, milestones for accomplishing grant activities and responsibilities for effectively implementing the project, including the evaluation process for assuring successful implementation of grant objectives. Funds must be used in a flexible manner, as determined appropriate by input from stakeholders and identified needs.

In addition, applicants should outline the strategy for documenting and reporting the activities undertaken during the life of the grant for ODEP's future use in working with other grantees and constituencies.

Staff Capacity—The applicant must identify how it will ensure that trained staff are available to provide grant related services who have adequate knowledge of diverse disabilities, knowledge of diverse customized employment strategies, and employment-related experience for the target population. Resumes must be included in the Appendices.

The application must:

(1) Describe the proposed staffing of the project. Identify how it will ensure that trained staff with adequate knowledge of diverse disabilities, knowledge of diverse customized employment strategies, and employment-related experience for the target population will be available to provide grant-related services.

(2) Summarize the qualifications, including relevant education, training and experience of key project personnel, as well as the qualifications, including relevant training and experience of project consultants or subcontractors. Attach copies of resumes in the Appendices.

(3) Describe the applicant's experience in serving people with disabilities and providing customized employment services.

(4) Describe the extent to which the time commitments of the project director and other key project personnel are appropriate and adequate to meet the objectives of the proposed project.

In evaluating the management and outcomes criteria, the ODEP considers the following factors to be of particular importance:

(a) The extent to which the proposed budget and narrative justifications are adequate to support the proposed project;

(b) The extent to which performance feedback and continuous improvement are integral to the design of the proposed project;

(c) The extent to which the methods of evaluation provide for examining the effectiveness of project implementation strategies;

(d) The extent to which the evaluation will provide information to other programs about effective strategies suitable for replication or testing in other settings;

(e) The extent to which the methods of evaluation include the objective use of performance measures that are clearly related to the intended outcomes of the project and will produce quantitative and qualitative data;

(f) The extent to which the methods of evaluation measure in both quantitative and qualitative terms, program results and satisfaction of customers, both people with disabilities and employers;

(g) The adequacy of mechanisms for ensuring high-quality products and services from the proposed project;

(h) The extent to which the key personnel are appropriate and adequate to meet the objectives of the proposed projects;

(i) The extent to which the budget is adequate to support and sustain the proposed project activities over the projected five-year period.

(j) The extent to which the costs are reasonable in relation to the objectives, design, and potential significance of the proposed project.

Part VIII. Monitoring and Reporting

Monitoring: ODEP is responsible for ensuring the effective implementation of each competitive grant project in accordance with the provisions of this announcement and the terms of the grant award document. Applicants should assume that ODEP staff, or their designees, will conduct on-site project reviews periodically. Reviews will focus on timely project implementation, performance in meeting the grant's programmatic goals and objectives, expenditures of grant funds on allowable activities, integration and coordination with other resources and service providers in the local area, project management and administration of project activities. Customized Employment Grants may be subject to other additional reviews at the discretion of the ODEP.

Reporting: Grantees will be required to submit quarterly financial and narrative progress reports. In addition, all grantees will be expected to provide information on individuals with disabilities securing employment through use of customized strategies (including information on types of jobs, wages, and benefits secured by specific individuals with disabilities) and other areas addressed through the linkages and networks facilitated by project activities.

Grantees will be required to submit periodic financial and participation reports. Specifically the following reports will be required:

A. Quarterly reports: The quarterly report is estimated to take ten hours to complete. The form for the Quarterly Report will be provided by ODEP. ODEP will work with the grantee to help refine the requirements of the report, which will, among other things, include measures of ongoing analysis for continuous improvement and customer satisfaction.

B. Standard Form 269; Financial Status Report Form (FSR) will be completed on a quarterly basis, using the on-line electronic reporting system.

C. Final Project Report: including an assessment of project performance and outcomes achieved. The final report is estimated to take 20 hours. This report will be submitted in hard copy and on electronic disk using a format and following instructions, which will be provided by the DOL. A draft of the final report is due to ODEP 45 days before the termination of the grant. The final report is due to the DOL 60 days following the termination of the grant.

All grantees must agree to cooperate with an independent evaluation to be conducted by ODEP. ODEP will arrange for and conduct this independent evaluation of the outcomes, impacts, and accomplishments of each funded project. Grantees must agree to make available records on all parts of project activity, including participant employment and wage data, and to provide access to personnel, as specified by the evaluator(s), under the direction of ODEP. This independent evaluation is separate from the ongoing evaluation for continuous improvement required of the grantee for project implementation. The ODEP's evaluation of the Customized Employment Grants includes a process evaluation that includes extensive information pertaining to achievements under the grant, summary information, number of people with disabilities receiving services, number of people employed through then One-Stop system and other sources.

Grantees must also agree to work with ODEP in its various national technical assistance collaboratives efforts in order to freely share with others what is learned about delivering customized employment services to the target population. Grantees must agree to collaborate with other research institutes, centers, studies, and evaluations that are supported by DOL and other relevant Federal agencies, as appropriate. In addition, ODEP has established performance goals that are consistent with the Department (GPRA) goals as noted in the introduction of Part VII—Government Requirements/Statement of Work. Customized Employment grantees will be expected to achieve these performance goals. Finally, Grantees must agree to actively utilize the programs sponsored by the ODEP, including the Job Accommodation Network, (http://:www.jan.wvu.edu), and the Employer Assistance Referral Network (http://www.earnworks.com).

Part IX. Review Process and Evaluation Criteria

All applications will be reviewed for compliance with the requirements of this notice. A careful evaluation of applications will be made by a technical review panel, which will evaluate the applications against the rating criteria listed in this SGA. The panel results are advisory in nature and not binding on the Grant Officer. ODEP may elect to award grants with or without discussion with the offeror. In situations without discussions, an award will be based on the offeror's signature on the SF 424, which constitutes a binding offer. The Grant Officer may consider any information that is available and will make final award decisions based on what is most advantageous to the Government, considering such factors as:

• Panel findings;

• Geographic distribution of the competitive applications and based on location of the existing Customized Employment Grants (Anchorage, AK; Montgomery, AL; NAPA and San Diego, CA; Marietta, GA; Indianapolis, IN; Malden, MA; Bucksport, ME; Detroit, MI; Blaine, MN; Hempstead, NY; Knoxville, TN; El Paso, TX; Fairfax, VA; and Kennewick, WA;);

• Assuring a variety of program designs; and

• Availability of funds

Part X. Administration Provisions

A. Administrative Standards and Provisions

Grantees are strongly encouraged to read these regulations before submitting a proposal. The grants awarded under this SGA shall be subject to the following as applicable:

• 29 CFR part 95—Grants and Agreements With Institutions of Higher Education, Hospitals, and Other Non-Profit Organizations, and With Commercial Organizations, Foreign Governments, Organizations Under the Jurisdiction of Foreign Governments, and International Organizations;

• 29 CFR part 96—Audit Requirements for Grants, Contracts, and Other Agreements.

• 29 CFR part 97—Uniform Administrative Requirement for Grants and Cooperative Agreements to State and Local Governments

B. Allowable Costs

Determinations of allowable costs shall be made in accordance with the following applicable Federal cost principles:

• State and Local Government—OMB Circular A-87

• Nonprofit Organizations—OMB Circular A-122

• Profit-Making Commercial Firms—48 CFR part 31

Profit will not be considered an allowable cost in any case.

C. Grant Assurances

As a condition of the award, the applicant must certify that it will comply fully with the nondiscrimination and equal opportunity provisions of the following laws:

• 29 CFR part 31—Nondiscrimination in Federally-assisted programs of the Department of Labor, effectuation of Title VI of the Civil Rights Act of 1964.

• 29 CFR part 32—Nondiscrimination on the Basis of Disability in Programs and Activities Receiving or Benefiting from Federal Assistance. (Implementing section 504 of the Rehabilitation Act, 29 U.S.C. 794)

• 29 CFR part 36—Nondiscrimination on the Basis of Sex in Education Programs or Activities Receiving Federal Financial Assistance. (Implementing title IX of the Education Amendments of 1972, 20 U.S.C. 1681 et. seq.)

• 29 CFR part 37—Nondiscrimination and Equal Opportunity Provisions of the Workforce Investment Act of 1998 (WIA), (Implementing Section 188 of the Workforce Investment Act, 29 U.S.C. 2938)

The applicant must include assurances and certifications that it will comply with these laws in its grant application. The assurances and certifications are attached as Appendix C.

Signed at Washington, DC this 3rd day of June, 2003
Lawrence J. Kuss,
Grant Officer.

Appendix A. Application for Federal Assistance, Form SF 424

Appendix B. Budget Information Sheet, Form SF 424A

Appendix C. Assurances and Certifications Signature Page

Appendix D. Survey on Ensuring Equal Opportunity

BILLING CODE 4510-CX-P

[FR Doc. 03-14350 Filed 6-5-03; 8:45 am]

BILLING CODE 4510-CX-C